DEPARTMENT OF HEALTH AND HUMAN SERVICES

[Document Identifier: OS-0990-new]

Agency Information Collection Request: 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 10, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: State-Level Paid Family Leave Policy Project.

Type of Collection: New.

0990-NEW—Office of the Secretary/Office on Women's Health (OWH)

Abstract: The Department of Health and Human Services (DHHS) Office on Women's Health (OWH) “provides national leadership and coordination to improve the health of women and girls through policy, education, and innovative programs.” Through the State-Level Paid Family Leave Policy Project, OWH will explore the relationship between women's health and state-level paid family leave (PFL) programs, which provide partial wage replacement to eligible employees to bond with a new child. The project aims to increase awareness of women's health effects in relation to state-level PFL programs among key stakeholders, including advocates, state and federal policymakers, and state program administrators. This information will be used to inform the national conversation about these programs.

The State-Level Paid Family Leave Policy Project involves the collection of information on new mothers' health, health behaviors, and ability to fulfill their roles in the workplace, family and community. Data will be collected through 16 one-time focus groups in the four states with fully functioning state-level PFL programs (California, New Jersey, Rhode Island, and New York) with both women who used and women who did not use the program. A questionnaire will be administered prior to the focus groups to collect information on participants' demographic characteristics and other external factors that may affect health. Data collection and analysis will take approximately one year.

Interested individuals will be screened for eligibility. Participants must be mothers with a child under the age of one and be eligible for their state's respective PFL program. To participate as a state-level PFL user, mothers must have used the entire state-level PFL benefit. To participate as a state-level PFL non-user, mothers must have a baby older than the “state-level PFL threshold” and have not taken any state-level PFL. We define the threshold as the time after which mothers are typically out of the temporary disability insurance (TDI) and state-level PFL window (approximately 12 weeks).

Annualized Burden Hour Table
Forms | Type of respondents | Number of respondents | Number of responses per respondent | Average burden per response (within hours) | Total burden hours
Focus group screener | Interested Individuals | 384 | 1 | 15/60 | 96
Demographic questionnaire | Focus group participants | 96 | 1 | 15/60 | 24
Focus group protocol | Focus group participants | 96 | 1 | 1.25 | 120
Total |  |  |  |  | 240

Terry Clark,
Office of the Secretary, Paperwork Reduction Act Reports Clearance Officer.

[FR Doc. 2019-12098 Filed 6-7-19; 8:45 am]

BILLING CODE 4150-33-P